DEPARTMENT OF THE INTERIOR

Bureau of Land Management

Notice of Public Meeting: Resource Advisory Council to the Lower Snake River District

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Lower Snake River District Resource Advisory Council (RAC), will meet as indicated below.

DATES: The meeting will be held May 21, 2003 at the Marsing Community Center, located at 126 Bruneau Highway, Marsing, Idaho, beginning at 9 a.m. Public comment periods will be held after each topic on the agenda. The meeting will adjourn at 5 p.m.

FOR FURTHER INFORMATION CONTACT: MJ Byrne, Public Affairs Officer and RAC Coordinator, Lower Snake River District, 3948 Development Ave., Boise, ID 83705, Telephone (208) 384-3393.

SUPPLEMENTARY INFORMATION: The 15-member Council advises the Secretary of the Interior, through the Bureau of Land Management, on a variety of planning and management issues associated with public land management in southwestern Idaho. At this meeting, the following topics will be discussed:

• RAC Members will discuss with BLM representatives what role they envision the Members playing in the “Working Landscape-Grazing Policy Changes” Initiative after the three “Listening” public meetings held around Idaho, in April;

• A presentation will be given on RS 2477 and the new handbook issued in November, 2002, entitled, “Road Management and Maintenance Guidelines for Public Lands in Idaho”;

• A video will be shown during lunch about noxious weeds;

• An update will be given on the two Resource Management Plans under development in the District;

• Subcommittee reports on Rangeland Standards and Guidelines, Sage Grouse Habitat Management, OHV and Transportation Management, River Recreation and Resource Management Plans, and Fire and Fuels Management; and

• Each of the Field Office Managers will provide an update on current activities and issues in each of their field office areas.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below. Expedited publication is requested to give the public adequate notice.

Dated: April 17, 2003.
Jimmie Buxton,
Acting Associate District Manager.

[FR Doc. 03-9980 Filed 4-22-03; 8:45 am]

BILLING CODE 4310-AG-P